DEPARTMENT OF COMMERCE

National Institute of Standards and Technology

[Docket No. 131023883-3883-01]

Draft Guidance on Intellectual Property Rights for the National Network for Manufacturing Innovation and Draft Institute Performance Metrics for the National Network for Manufacturing Innovation

AGENCY: National Institute of Standards and Technology, Department of Commerce.

ACTION: Notice.

SUMMARY: The Advanced Manufacturing National Program Office (AMNPO), hosted by the National Institute of Standards and Technology (NIST), announces the release for public comment of two AMNPO draft documents entitled Draft Guidance on Intellectual Property Rights for the National Network for Manufacturing Innovation and Draft Institute Performance Metrics for the National Network for Manufacturing Innovation. The first document describes draft guidance pertaining to intellectual property (IP) management, and the second document describes draft institute performance metrics, for the proposed National Network for Manufacturing Innovation (NNMI) and the individual manufacturing innovation institutes that compose the network. These two documents were produced by the federal interagency AMNPO, hosted by NIST. The AMNPO seeks public comments on the two documents. All comments received will be made publicly available.

DATES: Comments must be received by 11:59 p.m. Eastern Time December 13, 2013.

ADDRESSES: Comments on each document should be provided separately. Comments should be sent to amnpo@nist.gov with the Subject, “NNMI DRAFT IP” or “NNMI DRAFT Metrics.” Comments will only be accepted by email.

The AMNPO draft documents are available on the web at the addresses shown below:

• Draft Guidance on Intellectual Property Rights for the National Network for Manufacturing Innovation at: http://www.manufacturing.gov/docs/nnmi_draft_ip.pdf, and

• Draft Institute Performance Metrics for the National Network for Manufacturing Innovation at: http://www.manufacturing.gov/docs/nnmi_draft_metrics.pdf.

An electronic version of the Comment Form that is to be used to provide comment for either report is available on the web at: http://www.manufacturing.gov/docs/comment_matrix.pdf. The Web site for the AMNPO is http://www.manufacturing.gov/welcome.html.

FOR FURTHER INFORMATION CONTACT: For further information about this announcement, contact Frank Gayle, Advanced Manufacturing National Program Office, National Institute of Standards and Technology, U.S. Department of Commerce, 100 Bureau Drive, Mailstop 4040, Gaithersburg, MD 20899, telephone (301) 975-8280; email amnpo@nist.gov. Please direct media inquiries to Mark Bello, NIST Office of Public Affairs, telephone (301) 975-3776; email mark.bello@nist.gov.

SUPPLEMENTARY INFORMATION: The President's manufacturing agenda includes his vision for an NNMI, first announced on March 9, 2012.¹ The NNMI focuses on strengthening and ensuring the long-term competitiveness and job-creating power of U.S. manufacturing by creating a network of individual manufacturing innovation institutes. Each institute would serve as a regional hub designed to bridge the gap between basic research and product development, bringing together companies, universities and community colleges, and Federal agencies to co-invest in technology areas that encourage investment and production in the U.S. This type of innovation infrastructure provides a unique “teaching factory” that allows for education and training of students and workers at all levels, while providing the shared assets to help companies, most importantly small and medium-sized manufacturers, access the cutting-edge capabilities and equipment to design, test, and pilot new products and manufacturing processes.

¹ President Obama to Announce New Efforts to Support Manufacturing Innovation, Encourage Insourcing; http://www.whitehouse.gov/the-press-office/2012/03/09/president-obama-announce-new-efforts-support-manufacturing-innovation-en.

Each institute will serve as a regional hub of manufacturing excellence, providing the innovation infrastructure to support regional manufacturing and ensuring that our manufacturing sector is a key pillar in an economy that is built to last. Each institute also will have a well-defined focus to address industrially relevant manufacturing challenges on a large scale and to provide the capabilities and facilities required to reduce the cost and risk of commercializing new technologies.

On December 15, 2011, Commerce Secretary John Bryson announced the establishment of a national program office within the Department of Commerce to coordinate and help implement the President's advanced manufacturing partnership.² The AMNPO, hosted by NIST, is charged with convening and enabling industry-led, private-public partnerships focused on manufacturing innovation, engaging U.S. universities, and designing and implementing an integrated national advanced manufacturing initiative to facilitate collaboration and information-sharing across Federal agencies. AMNPO partner agencies include Department of Commerce's NIST, Department of Defense, Department of Education, Department of Energy's Advanced Manufacturing Office, Department of Labor, National Aeronautics and Space Administration (NASA), and National Science Foundation.

² http://www.commerce.gov/news/press-releases/2011/12/16/commerce-secretary-john-bryson-lays-out-vision-department-commerce.

On May 4, 2012, the AMNPO issued a Request for Information (RFI), seeking public comment on specific questions related to the structure and operations of the NNMI and the individual Institutes for Manufacturing Innovation. The RFI was published in the Federal Register (77 FR 26509) and may be found at: http://www.gpo.gov/fdsys/pkg/FR-2012-05-04/pdf/2012-10809.pdf. Comments in response to the RFI were due on or before 11:59 p.m. Eastern time on October 25, 2012. All comments received in response to the RFI are available online at http://www.manufacturing.gov/rfi_responses.html. In August of 2013, NISTIR G2013-1050, entitled Request for Information: Response Summary for the National Network for Manufacturing Innovation, was published and is available at: http://www.manufacturing.gov/docs/RFI_summary.pdf.

The AMNPO also held four NNMI workshops as part of its strategy for soliciting nation-wide input on building the NNMI in conjunction with the published RFI. The first workshop was held on April 25, 2012, at Rensselaer Polytechnic Institute in Troy, New York, the second on July 9, 2012, at Cuyahoga Community College in Cleveland, Ohio, the third on September 27, 2012, at the Arnold and Mabel Beckman Center of the National Academies of Sciences and Engineering in Irvine, California, and the fourth on October 18, 2012, at the Millennium Harvest House in Boulder, Colorado. A final workshop was held on January 16, 2013, at the U.S. Space and Rocket Center, Davidson Center for Space Exploration, Huntsville, Alabama, after the conclusion of the RFI solicitation period, and included review of the comments received. Summary reports for all five workshops are available on the web at: http://www.manufacturing.gov/pubs_resources.html.

As part of his We Can't Wait efforts, President Obama announced in March of 2012, that immediate steps would be taken to launch a pilot institute to serve as a proof-of concept demonstration for the NNMI Institutes.³ A collaborative inter-agency team of technical experts led by the Department of Defense, in partnership with the Department of Energy, NASA, National Science Foundation, and the Department of Commerce's National Institute of Standards and Technology, determined that Additive Manufacturing showed great promise for the defense, energy, space and commercial sectors of the Nation. In August, 2012, the selection of the National Additive Manufacturing Innovation Institute (NAMII), a partnership that includes manufacturing firms, universities, community colleges, and nonprofit organizations from the Ohio-Pennsylvania-West Virginia “Tech Belt,” was announced.⁴

³ http://www.whitehouse.gov/the-press-office/2012/03/09/president-obama-announce-new-efforts-support-manufacturing-innovation-en.

⁴ http://www.commerce.gov/news/press-releases/2012/08/16/obama-administration-announces-new-public-private-partnership-support.

On January 16, 2013, the National Science and Technology Council (NSTC) released a report based on the input of nearly 900 stakeholders that describes an approach for implementing and managing the proposed NNMI. The development of the report, National Network for Manufacturing Innovation: A Preliminary Design, was informed by public comment received.⁵ Most recently, on May 9, 2013, the President announced competitions to create three new manufacturing innovation institutes, and the Administration continues to call on Congress to act on the President's proposal and FY 2014 Budget that includes a one-time $1 billion investment at the Department of Commerce to create the NNMI.⁶

⁵ http://manufacturing.gov/docs/NNMI_prelim_design.pdf.

⁶ http://www.whitehouse.gov/the-press-office/2013/05/09/obama-administration-launches-competition-three-new-manufacturing-innova.

Request for Comments: The AMNPO requests public comments from all interested parties on two AMNPO draft documents, entitled Draft Guidance on Intellectual Property Rights for the National Network for Manufacturing Innovation and Draft Institute Performance Metrics for the National Network for Manufacturing Innovation. These documents address topics identified by stakeholders, as high priorities for the NNMI identified in the RFI and in the four NNMI workshops. Documents related to additional high priority NNMI matters may be issued in this manner in the future. Public comments must be submitted by email, using the template that can be found at http://www.manufacturing.gov/docs/comment_matrix.pdf, to the address given above in the ADDRESSES section of this notice. Comments on each document should be provided separately using the template referenced within the ADDRESSES section of this notice. All comments will be made publicly available without redaction, so the public should not include personal or proprietary information in comments. See the FOR FURTHER INFORMATION CONTACT section of this notice should problems be encountered submitting comments.

Dated: November 6, 2013.
Phillip Singerman,
Associate Director for Innovation and Industry Services.

[FR Doc. 2013-27157 Filed 11-12-13; 8:45 am]

BILLING CODE 3510-13-P